DEPARTMENT OF TRANSPORTATION

Surface Transportation Board

[STB Docket No. AB-55 (Sub-No. 620X)]

CSX Transportation, Inc.—Discontinuance of Service Exemption-in Raleigh County, WV

CSX Transportation, Inc. (CSXT) has filed a notice of exemption under 49 CFR 1152 Subpart F—Exempt Abandonments and Discontinuances to discontinue service over approximately 15.12 miles of railroad at Jarrolds Valley Junction between milepost CLP 0.0 and the end of track near Clear Creek at milepost CLP 15.12, in Raleigh County, WV. The line traverses United States Postal Service Zip Codes 25008, 25044, 25048, 25060, and 25193.

CSXT has certified that: (1) No local traffic has moved over the line for at least 2 years; (2) there is no overhead traffic on the line; (3) no formal complaint filed by a user of rail service on the line (or by a state or local government entity acting on behalf of such user) regarding cessation of service over the line either is pending with the Surface Transportation Board (Board) or with any U.S. District Court or has been decided in favor of complainant within the 2-year period; and (4) the requirements at 49 CFR 1105.7 (environmental reports), 49 CFR 1105.8 (historic reports), 49 CFR 1105.11 (transmittal letter), 49 CFR 1105.12 (newspaper publication), and 49 CFR 1152.50(d)(1) (notice to governmental agencies) have been met.

As a condition to this exemption, any employee adversely affected by the discontinuance shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, this exemption will be effective on August 20, 2002, unless stayed pending reconsideration. Petitions to stay and formal expressions of intent to file an OFA under 49 CFR 1152.27(c)(2),¹ and trail use/rail banking requests under 49 CFR 1152.29 must be filed by July 29, 2002. Petitions to reopen ² must be filed by August 8, 2002, with: Surface Transportation Board, 1925 K Street, NW., Washington, DC 20423.

¹ Each offer of financial assistance must be accompanied by the filing fee, which is currently set at $1,100. See 49 CFR 1002.2(f)(25).

² Because this is a discontinuance proceeding, trail use/rail banking and public use conditions are not appropriate. This proceeding is exempt from environmental and historic reporting requirements. CSXT only intends to discontinue service over the line and does not intend to abandon the line, but intends instead to leave the line in place. CSXT indicates that this would facilitate possible future operations over the line in the event the coal market would warrant those operations. Because CSXT's discontinuance of service will merely result in the cessation of service over the line, and has not sought abandonment authority, this proceeding is exempt from the report requirements listed above and no environmental documentation will be prepared. See 49 CFR 1105.6 (c)(6) and 1105.8 (a) and (b).

A copy of any petition filed with the Board should be sent to CSXT's representative: Natalie S. Rosenberg, Counsel, CSX Transportation, Inc., 500 Water Street J150, Jacksonville, FL 32202.

If the verified notice contains false or misleading information, the exemption is void ab initio.

Board decisions and notices are available on our website at WWW.STB.DOT.GOV.

Decided: July 12, 2002.
By the Board, David M. Konschnik, Director, Office of Proceedings.
Vernon A. Williams,
Secretary.

[FR Doc. 02-18246 Filed 7-18-02; 8:45 am]

BILLING CODE 4915-00-P